ENVIRONMENTAL PROTECTION AGENCY

[FRL-10019-95-OP]

Notification of Request for Nominations to the National Environmental Justice Advisory Council

AGENCY: Environmental Protection Agency (EPA).

ACTION: Request for Nominations to the National Environmental Justice Advisory Council (NEJAC).

SUMMARY: The U.S. Environmental Protection Agency (EPA) invites nominations from a diverse range of qualified candidates to be considered for appointment to its National Environmental Justice Advisory Council (NEJAC). The NEJAC was chartered to provide advice regarding broad, cross-cutting issues related to environmental justice. This notice solicits nominations to fill approximately seven (7) new vacancies for terms through September 2022. To maintain the representation outlined by the charter, nominees will be selected to represent: Academia (1 vacancy); community-based organizations (2 vacancies); non-governmental organizations (1 vacancy); state and local governments (2 vacancies); and tribal governments and indigenous organizations (1 vacancy). We are interested in adding members located in EPA regions 1, 2, 7, 8, 9, 10. Vacancies are anticipated to be filled by September 2021. Sources in addition to this Federal Register Notice will be utilized in the solicitation of nominees.

DATES: Nominations should be submitted in time to arrive no later than Wednesday, March 24, 2021.

ADDRESSES: Submit nominations electronically with the subject line NEJAC Membership 2021 to nejac@epa.gov. The Office of Environmental Justice will acknowledge receipt of nominations.

FOR FURTHER INFORMATION CONTACT: Karen L. Martin, NEJAC Designated Federal Officer, U.S. EPA; email: nejac@epa.gov; telephone: (202) 564-0203.

SUPPLEMENTARY INFORMATION: The NEJAC is a federal advisory committee chartered under the Federal Advisory Committee Act (FACA), Public Law 92-463. EPA established the NEJAC in 1993 to provide independent consensus advice to the EPA Administrator about a broad range of environmental issues related to environmental justice. The NEJAC conducts business in accordance with the Federal Advisory Committee Act (FACA) (5 U.S.C. App. 2) and related regulations.

The Council consists of 30 members (including a Chairperson and two Vice-Chairpersons) appointed by EPA's Administrator. Members serve as non-federal stakeholders representing: Six (6) from academia, four (4) from business and industry; seven (7) from community based organizations; six (6) from non-governmental/environmental organizations; four (4) from state and local governments; and three (3) from tribal governments and indigenous organizations, of which one member serves as a liaison to the National Tribal Caucus. Members are appointed for one (1); two (2) or three (3)-year terms with the possibility of reappointment for another term.

The NEJAC usually meets face-to-face twice a year, generally in the Spring and the Fall. Additionally, members may be asked to participate in teleconference meetings or serve on work groups to develop recommendations, advice letters, and reports to address specific policy issues. The average workload for members is approximately 5 to 8 hours per month. EPA provides reimbursement for travel and other incidental expenses associated with official government business.

Nominations: Any interested person and/or organization may nominate qualified individuals for membership. Individuals are encouraged to self-nominate. The EPA values and welcomes diversity. In an effort to obtain nominations of diverse candidates, the Agency encourages nominations of women and men of all racial and ethnic groups from all geographic locations of the United States of America. All nominations will be fully considered, but applicants need to be aware of the specific representation sought as outlined in the summary above. In addition, EPA is seeking nominees with knowledge in youth perspectives and youth development; environmental measures; public health/health disparities; water infrastructure and other water concerns; farmworkers and pesticides; community sustainability and resiliency; green jobs and green infrastructure; land use and equitable development; and emerging inclusion of sub-populations such as the homeless, veterans, prisoners, etc.

Other criteria used to evaluate nominees will include:

• The background and experience that would help members contribute to the diversity of perspectives on the committee (e.g., geographic, economic, social, cultural, educational background, professional affiliations, and other considerations;

• demonstrated experience with environmental justice and community sustainability issues at the national, state, or local level;

• excellent interpersonal and consensus-building skills;

• ability to volunteer time to attend meetings 2-3 times a year, participate in teleconference meetings, attend listening sessions with the Administrator or other senior-level officials, develop policy recommendations to the Administrator, and prepare reports and advice letters; and

• willingness to commit time to the committee and demonstrated ability to work constructively and effectively on committees.

How To Submit Nominations: Any interested person or organization may nominate qualified persons to be considered for appointment to this advisory committee. Individuals are encouraged to self-nominate. Nominations will be submitted in electronic format following the template available at https://www.epa.gov/environmentaljustice/nominations-nejac. To be considered, all nominations should include:

• Current contact information for the nominee/applicant, including the nominee's/applicant's name, organization (and position within that organization), current business address, email address, telephone numbers and the stakeholder category position you are interested in.

• Brief Statement describing the nominee's/applicant's interest in serving on the NEJAC.

• Résumé and a short biography describing the professional and educational qualifications of the nominee, including a list of relevant activities, and any current or previous service on advisory committees.

• Brief statements describing experience as it relates to engaging affected communities, understanding environmental justice/relevant issues, consensus building, communication skills and availability.

• Letter[s] of recommendation from a third party supporting the nomination. Letter[s] should describe how the nominee's experience and knowledge will bring value to the work of the NEJAC.

Matthew Tejada,
Director Office of Environmental Justice.

[FR Doc. 2021-02154 Filed 2-1-21; 8:45 am]

BILLING CODE 6560-50-P